FEDERAL COMMUNICATIONS COMMISSION

47 CFR Part 73

[DA 01-1910; MM Docket No. 01-95; RM-10093]

Radio Broadcasting Services; Naches, Sunnyside and Benton City, WA

AGENCY: Federal Communications Commission.

ACTION: Final rule.

SUMMARY: The Commission grants a petition for rule making filed by Butterfield Broadcasting Corporation (“petitioner”) licensee of Stations KZTA(FM), Naches, Washington and KZTB(FM), Sunnyside, Washington. See 66 FR 22498 (May 4, 2001). Channel 245C2 is substituted for 245A at Naches, and Channel 244A is reallotted from Sunnyside to Benton City, Washington, as the community's first local transmission service. Channel 245C2 is allotted at Naches in compliance with the Commission's minimum distance separation requirements at petitioner's requested site at coordinates NL 46-36-02 and WL 120-52-06. Channel 244A is reallotted from Sunnyside to Benton City in compliance with the Commission's minimum distance separation requirements at petitioner's requested site, at coordinates NL 46-14-48 and 120-25-40.

DATES: Effective September 24, 2001.

FOR FURTHER INFORMATION CONTACT: Victoria M. McCauley, Mass Media Bureau, and (202) 418-2180.

SUPPLEMENTARY INFORMATION: This is a synopsis of the Commission's Report and Order, MM Docket No. 01-95, adopted August 1, 2001 and released August 10, 2001. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW, Washington, DC 20036.

List of Subjects in 47 CFR Part 73

Radio broadcasting.

PART 73—RADIO BROADCAST SERVICES

1. The authority citation for part 73 continues to read as follows:

Authority: 47 U.S.C. 154, 303, 334 and 336.

§ 73.202 [Amended]

2. Section 73.202(b), the Table of FM Allotments under Washington is amended by removing Channel 245A at Naches and adding Channel 245C2 at Naches, and by removing Sunnyside, Channel 244A, and adding Benton City, Channel 244A.

Federal Communications Commission.
John A. Karousos,
Chief, Allocations Branch, Policy and Rules Division, Mass Media Bureau.

[FR Doc. 01-21409 Filed 8-23-01; 8:45 am]

BILLING CODE 6712-01-P